Executive Order 14266 of April 9, 2025

Modifying Reciprocal Tariff Rates To Reflect Trading Partner Retaliation and Alignment

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. In Executive Order 14257 of April 2, 2025 (Regulating Imports With a Reciprocal Tariff to Rectify Trade Practices that Contribute to Large and Persistent Annual United States Goods Trade Deficits), I declared a national emergency arising from conditions reflected in large and persistent annual U.S. goods trade deficits, and imposed additional ad valorem duties that I deemed necessary and appropriate to deal with that unusual and extraordinary threat, which has its source in whole or substantial part outside the United States, to the national security and economy of the United States. Section 4(b) of Executive Order 14257 provided that “[s]hould any trading partner retaliate against the United States in response to this action through import duties on U.S. exports or other measures, I may further modify the [Harmonized Tariff Schedule of the United States] to increase or expand in scope the duties imposed under this order to ensure the efficacy of this action.”

In the Executive Order dated April 8, 2025 (Amendment to Reciprocal Tariffs and Updated Duties As Applied to Low-Value Imports from the People's Republic of China), pursuant to section 4(b) of Executive Order 14257, I ordered modification of the Harmonized Tariff Schedule of the United States (HTSUS) to raise the applicable ad valorem duty rate for imports from the People's Republic of China (PRC) established in Executive Order 14257, in recognition of the fact that the PRC announced that it would retaliate against the United States in response to Executive Order 14257.

On April 9, 2025, the State Council Tariff Commission of the PRC announced that, in response to the Executive Order dated April 8, 2025, an 84 percent tariff would be imposed on all goods imported into the PRC originating from the United States, effective at 12:01 a.m. on April 10, 2025. Pursuant to section 4(b) of Executive Order 14257, I have determined that it is necessary and appropriate to address the national emergency declared in that order by modifying the HTSUS and taking other actions to increase the duties imposed on the PRC in response to this latest retaliation. In my judgment, this modification is necessary and appropriate to effectively address the threat to U.S. national and economic security posed by the PRC's contribution to the conditions reflected in large and persistent trade deficits, including PRC industrial policies that have produced systemic excess manufacturing capacity in the PRC and suppressed U.S. domestic manufacturing capacity, which conditions are made worse by the PRC's recent actions.

Section 4(c) of Executive Order 14257 provided that, “[s]hould any trading partner take significant steps to remedy non-reciprocal trade arrangements and align sufficiently with the United States on economic and national security matters, I may further modify the HTSUS to decrease or limit in scope the duties imposed under this order.” Since I signed Executive Order 14257, in contrast to the PRC's actions, more than 75 other foreign trading partners, including countries enumerated in Annex I to Executive Order 14257, have approached the United States to address the lack of trade reciprocity in our economic relationships and our resulting national and economic security concerns. This is a significant step by these countries toward remedying non-reciprocal trade arrangements and aligning sufficiently with the United States on economic and national security matters.

Pursuant to section 4(c) of Executive Order 14257, I have determined that it is necessary and appropriate to address the national emergency declared in that order by modifying the HTSUS to temporarily suspend, for a period of 90 days, except with respect to the PRC, application of the individual ad valorem duties imposed for foreign trading partners listed in Annex I to Executive Order 14257, and to instead impose on articles of all such trading partners an additional ad valorem rate of duty as set forth herein, pursuant to the terms of, and except as otherwise provided in, Executive Order 14257, as modified by this order.

Sec. 2. Suspension of Country-Specific Ad Valorem Rates of Duty. Effective with respect to goods entered for consumption, or withdrawn from warehouse for consumption, on or after 12:01 a.m. eastern daylight time on April 10, 2025, enforcement of the second paragraph of section 3(a) of Executive Order 14257 is suspended until 12:01 a.m. eastern daylight time on July 9, 2025. Effective at 12:01 a.m. eastern daylight time on April 10, 2025, and until 12:01 a.m. eastern daylight time on July 9, 2025, all articles imported into the customs territory of the United States from the trading partners enumerated in Annex I to Executive Order 14257 shall be, consistent with law, subject to an additional ad valorem rate of duty of 10 percent, subject to all applicable exceptions set forth in Executive Order 14257.

Sec. 3. Tariff Modifications. In recognition of the fact that the PRC has announced that it will retaliate again against the United States in response to the Executive Order dated April 8, 2025, which amended Executive Order 14257, and in recognition of the sincere intentions by many other trading partners to facilitate a resolution to the national emergency declared in Executive Order 14257, the HTSUS shall be modified as follows:

Effective with respect to goods entered for consumption, or withdrawn from warehouse for consumption, on or after 12:01 a.m. eastern daylight time on April 10, 2025:

(a) heading 9903.01.25 of the HTSUS shall be amended by deleting the article description and by inserting “Articles the product of any country, except for products described in headings 9903.01.26-9903.01.33, and except as provided for in heading 9903.01.34, and except for articles the product of China, including Hong Kong and Macau, as described in heading 9903.01.63 that are entered for consumption, or withdrawn from warehouse for consumption, after 12:01 a.m. eastern daylight time on April 10, 2025, and that were not in transit on the final mode of transit prior to 12:01 a.m. eastern daylight time on April 10, 2025, as provided for in subdivision (v) of U.S. note 2 to this subchapter . . . . . . .” in lieu thereof;

(b) heading 9903.01.63 of the HTSUS shall be amended by deleting “84%” each place that it appears and by inserting “125%” in lieu thereof, and by deleting “April 9, 2025,” and by inserting “April 10, 2025” in lieu thereof;

(c) subdivision (v)(xiii)(10) of U.S. note 2 to subchapter III of chapter 99 of the HTSUS shall be amended by deleting “84%”, and inserting “125%” in lieu thereof, and subdivision (v)(xiii) of U.S. note 2 to subchapter III of chapter 99 of the HTSUS shall be amended by deleting “April 9, 2025,” and by inserting “April 10, 2025,” in lieu thereof; and

(d) headings 9903.01.43-9903.01.62 and 9903.01.64-9903.01.76 are hereby suspended, and subdivisions (v)(xiii)(i)-(ix) and (xi)-(lvii) of U.S. note 2 to subchapter III of chapter 99 of the HTSUS are hereby suspended for a period of 90 days beginning at 12:01 a.m. on April 10, 2025.

Sec. 4. De Minimis Tariff Increase. To ensure that the imposition of tariffs pursuant to section 3 of this order is not circumvented and that the purpose of Executive Order 14257, as modified by the Executive Order dated April 8, 2025, and this order are not undermined, I also deem it necessary and appropriate to:

(a) increase the ad valorem rate of duty set forth in section 2(c)(i) of Executive Order 14256 of April 2, 2025 (Further Amendment to Duties Addressing the Synthetic Opioid Supply Chain in the People's Republic of China as Applied to Low-Value Imports), as modified by the Executive Order dated April 8, 2025, from 90 percent to 120 percent;

(b) increase the per postal item containing goods duty in section 2(c)(ii) of Executive Order 14256, as modified by the Executive Order dated April 8, 2025, that is in effect on or after 12:01 a.m. eastern daylight time on May 2, 2025, and before 12:01 a.m. eastern daylight time on June 1, 2025, from 75 dollars to 100 dollars; and

(c) increase the per postal item containing goods duty in section 2(c)(ii) of Executive Order 14256, as modified by the Executive Order dated April 8, 2025, that is in effect on or after 12:01 a.m. eastern daylight time on June 1, 2025, from 150 dollars to 200 dollars.

Sec. 5. Implementation. The Secretary of Commerce, the Secretary of Homeland Security, and the United States Trade Representative, as applicable, in consultation with the Secretary of State, the Secretary of the Treasury, the Assistant to the President for Economic Policy, the Senior Counselor for Trade and Manufacturing, the Assistant to the President for National Security Affairs, and the Chair of the International Trade Commission, are directed to take all necessary actions to implement and effectuate this order, consistent with applicable law, including through temporary suspension or amendment of regulations or notices in the Federal Register and adopting rules and regulations, and are authorized to take such actions, and to employ all powers granted to the President by IEEPA, as may be necessary to implement this order. Each executive department and agency shall take all appropriate measures within its authority to implement this order.

Sec. 6. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06462

Filed 4-14-25; 8:45 am]

Billing code 3395-F4-P